ENVIRONMENTAL PROTECTION AGENCY

40 CFR Part 52

[EPA-R01-OAR-2004-NH-0001; A-1-FRL-8210-6]

Approval and Promulgation of Air Quality Implementation Plans; New Hampshire; Withdrawal of Proposed Rulemaking To Control Gasoline Fuel Parameters and Remove the Reformulated Gasoline Program From Four Counties in New Hampshire

AGENCY: Environmental Protection Agency (EPA).

ACTION: Withdrawal of proposed rule.

SUMMARY: In a letter dated May 31, 2006, the New Hampshire Department of Environmental Services (DES) requested withdrawal of their previously submitted State Implementation Plan (SIP) revision for oxygen flexible reformulated gasoline (OFRFG). EPA had proposed to approve this revision on February 2, 2004 (69 FR 4903), and received comments from five parties which outlined concerns. For reasons outlined below, New Hampshire has withdrawn this SIP revision request. Therefore, EPA is also withdrawing its proposed approval of the SIP revision.

DATES: The proposed rule is withdrawn as of August 16, 2006.

FOR FURTHER INFORMATION CONTACT: Robert C. Judge, EPA New England (CAQ), 1 Congress Street, suite 1100, Boston MA 02203; telephone, 617-918-1045; fax, 617-918-0045; judge.robert@epa.gov.

SUMMARY: On February 2, 2004 (69 FR 4903), EPA proposed approval of a State Implementation Plan (SIP) revision submitted by the New Hampshire Department of Environmental Services (DES) on October 31, 2002 and October 3, 2003, establishing fuel emissions performance requirements for gasoline distributed in southern New Hampshire which includes Hillsborough, Merrimack, Rockingham, and Strafford Counties. Final EPA approval of this SIP revision would ultimately result in New Hampshire no longer utilizing Federal reformulated gasoline (RFG) in this area 90 days after the effective date of the rule. New Hampshire had hoped their program would result in gasoline with less methyl tertiary butyl ether (MTBE) being distributed in the State.

On May 31, 2006, DES submitted a letter by which the State of New Hampshire withdrew their request to adopt their own State specific fuel program (OFRFG), and their request to opt-out of the Federal reformulated gasoline program. In this letter, New Hampshire outlined several reasons for withdrawing this SIP revision request. They explained that since the time of their initial SIP submission and EPA's subsequent proposed approval in February 2004, several circumstances that impact New Hampshire's choice to opt-out of RFG and implement their own State fuel program have changed. Specifically, they noted that MTBE bans were implemented in 2004 in Connecticut and New York areas with Federal reformulated gasoline without supply or price disruptions. Informed by this development, the New Hampshire General Court passed House Bill 58 in 2005 which banned (effective January, 2007) the importation and distribution of gasoline containing MTBE in New Hampshire. (Other similar MTBE ban legislation was also enacted in Maine, Vermont, and Rhode Island). And finally, New Hampshire pointed to the enactment of Federal energy legislation (the Energy Policy Act of 2005) with provisions that eliminated the Clean Air Act (CAA) minimum 2 percent oxygen mandate for RFG (the requirement that had resulted in between 3 and 10 times higher MTBE levels in RFG than conventional gasoline), mandated increased use of renewable fuels (primarily ethanol) nationally, and limited EPA's ability to approve new “boutique” fuel blends.

Given those circumstances, New Hampshire felt that their state, as well as many other areas of the country, would soon be receiving cleaner fuels with significantly reduced levels of MTBE. As such, they feel they achieved the state's objective of reducing MTBE in its gasoline without removing itself from the Federal RFG program and its associated toxics emission reduction benefits. Therefore, New Hampshire has requested that EPA no longer consider this SIP revision request, and has withdrawn the SIP revision request from EPA. As a result, EPA is also withdrawing its previous proposed approval of New Hampshire's SIP revision request.

List of Subjects in 40 CFR Part 52

Environmental protection, Air pollution control, Hydrocarbons, Intergovernmental relations, Ozone, and Reporting and recordkeeping requirements.

Authority: 42 U.S.C. 7401 et seq.

Dated: August 7, 2006.
Robert W. Varney,
Regional Administrator, EPA-New England.

[FR Doc. E6-13492 Filed 8-15-06; 8:45 am]

BILLING CODE 6560-50-P